DEPARTMENT OF COMMERCE

International Trade Administration

[A-552-845]

Thermoformed Molded Fiber Products From the Socialist Republic of Vietnam: Final Affirmative Determination of Sales at Less Than Fair Value

AGENCY: Enforcement and Compliance, International Trade Administration, Department of Commerce.

SUMMARY: The U.S. Department of Commerce (Commerce) determines that thermoformed molded fiber products (molded fiber products) from the Socialist Republic of Vietnam (Vietnam) are being, or are likely to be, sold in the United States at less than fair value (LTFV). The period of investigation (POI) is April 1, 2024, through September 30, 2024.

DATES: Applicable September 30, 2025.

FOR FURTHER INFORMATION CONTACT: Zachary Shaykin, AD/CVD Operations, Office IV, Enforcement and Compliance, International Trade Administration, U.S. Department of Commerce, 1401 Constitution Avenue NW, Washington, DC 20230; telephone: (202) 482-2638.

SUPPLEMENTARY INFORMATION:

Background

On May 6, 2025, Commerce published in the Federal Register its preliminary affirmative determination in the LTFV investigation of molded fiber products from Vietnam, in which we also postponed the final determination until September 24, 2025, and invited interested parties to comment on the Preliminary Determination.¹ On August 20 and September 12, 2025, Commerce issued its post-preliminary analysis memoranda in which we made certain changes to our differential pricing analysis and notified interested parties of our double remedies analysis.² We invited interested parties to comment on changes to the differential pricing analysis and our double remedies analysis.³

¹ See Thermoformed Molded Fiber Products From the Socialist Republic of Vietnam: Preliminary Affirmative Determination of Sales at Less Than Fair Value, Postponement of Final Determination and Extension of Provisional Measure, 90 FR 20153 (May 12, 2025) (Preliminary Determination), and accompanying Preliminary Decision Memorandum (PDM); see also Thermoformed Molded Fiber Products From the Socialist Republic of Vietnam: Preliminary Affirmative Determination of Sales at Less Than Fair Value, Postponement of Final Determination and Extension of Provisional Measures; Correction, 90 FR 24571 (June 11, 2025); and Memorandum, “Briefing Schedule,” dated August 14, 2025.

² See Memoranda, “Post-Preliminary Analysis for the Affirmative Determination in the Less-Than-Fair-Value Investigation of Thermoformed Molded Fiber Products from the Socialist Republic of Vietnam,” dated August 20, 2025; and “Post-Preliminary Analysis of Double Remedies for the Affirmative Determination in the Less-than-Fair-Value Investigation of Thermoformed Molded Fiber Products from the Socialist Republic of Vietnam,” dated September 12, 2025.

³ See “Memoranda, “Briefing Schedule for Differential Pricing Post-Preliminary Determination and Revised FOP Database,” dated August 25, 2025; and “Briefing Schedule for Double Remedies Post-Preliminary Determination,” dated September 15, 2025.

A summary of the events that occurred since the Preliminary Determination, as well as a full discussion of the issues raised by parties for this final determination, may be found in the Issues and Decision Memorandum.⁴ A list of topics included in the Issues and Decision Memorandum included as Appendix II to this notice. The Issues and Decision Memorandum is a public document and is on file electronically via Enforcement and Compliance's Antidumping and Countervailing Duty Centralized Electronic Service System (ACCESS). ACCESS is available to registered users at http://access.trade.gov. In addition, a complete version of the Issues and Decision Memorandum can be accessed directly at https://access.trade.gov/public/FRNoticesListLayout.aspx.

⁴ See Memorandum, “Issues and Decision Memorandum for the Final Affirmative Determination of Sales at Less-than-Fair-Value of Thermoformed Molded Fiber Products from the Socialist Republic of Vietnam,” dated concurrently with, and hereby adopted by, this notice (Issues and Decision Memorandum).

Scope of the Investigation

The products covered by this investigation are molded fiber products from Vietnam. For a complete description of the scope of this investigation, see Appendix I.

Scope Comments

In the Preliminary Scope Memorandum, we set aside a period of time for parties to raise issues regarding product coverage (i.e., scope) in scope-specific case briefs or other written comments.⁵ We received comments from multiple interested parties on the scope of the investigation as it appeared in the Preliminary Determination. For a summary of the product coverage comments submitted to the record for this final determination, and accompanying discussion and analysis of all comments timely received, see the Final Scope Decision Memorandum.⁶ After analyzing these comments, we made no changes to the scope of the investigation as it appeared in the Preliminary Determination for this final determination. See Appendix I.

⁵ See Memorandum, “Preliminary Scope Decision Memorandum,” dated May 6, 2025.

⁶ See Memorandum, “Less-Than-Fair-Value and Countervailing Duty Investigations of Thermoformed Molded Fiber Products from the People's Republic of China and the Socialist Republic of Vietnam: Final Scope Decision Memorandum,” dated concurrently, and hereby adopted by, this notice (Final Scope Decision Memorandum).

Verification

Commerce conducted verification of the information relied upon in making its final determination in this investigation, in accordance with section 782(i) of the Tariff Act of 1930, as amended (the Act). Specifically, we conducted on-site verification of the sales and cost information submitted by Vietnam Yuzhan Packaging Technology Company Limited (Yuzhan), for use in our final determination.⁷ We used standard verification procedures, including an examination of relevant sales and accounting records, and original source documents provided by Yuzhan.

⁷ See Memorandum, “Verification of the Sales and Factors of Production Responses of Vietnam Yuzhan Packaging Technology Company Ltd. in the Antidumping Duty Investigation of Thermoformed Molded Fiber Products from the Socialist Republic of Vietnam,” dated August 14, 2025.

Analysis of Comments Received

The issues raised in the case and rebuttal briefs by the parties in this investigation are discussed in the Issues and Decision Memorandum. For a list of the issues raised by interested parties and addressed in the Issues and Decision Memorandum, see Appendix II.

Changes Since the Preliminary Determination

We made certain changes to the margin calculations for Yuzhan since the Preliminary Determination. For a discussion of these changes, see the Issues and Decision Memorandum.

Vietnam-Wide Entity and Use of Adverse Facts Available (AFA)

As discussed in the Preliminary Determination, Commerce assigned an estimated weighted-average dumping margin on the basis of AFA, pursuant to sections 776(a) and (b) of the Act, to the Vietnam-wide entity (including, but not limited to, six companies which did not provide responses to Commerce's quantity and value questionnaire or rebut the presumption of government control).⁸ No party commented on our findings with respect to the Vietnam-wide entity and use of the highest corroborated dumping margin alleged in the petition as the appropriate rate assigned to the Vietnam-wide entity. Therefore, Commerce continues to find, pursuant to sections 776(a) and (b) of the Act, that the use of facts otherwise available, with adverse inferences, is warranted in determining the dumping rate for the Vietnam-wide entity. Accordingly, we continue to assign the Petition rate (i.e., 260.56 percent), as adjusted for export subsidies applied as AFA to the Vietnam-wide entity in the companion countervailing duty (CVD) investigation (i.e., 48.29 percent),⁹ in assigning a cash deposit rate of 212.67 percent, as AFA, to the Vietnam-wide entity in this final determination.

⁸ See Preliminary Determination, 90 FR at 20154 and fn. 11.

⁹ See unpublished Federal Register notice, “Thermoformed Molded Fiber Products from the People's Republic of China: Final Affirmative Countervailing Duty Determination,” dated concurrently with this notice; see also Memorandum, “Calculation of Countervailing Duty Subsidy Offset for the Vietnam-Wide Entity for the Final Determination,” dated concurrently with, and hereby adopted by, this notice.

Separate Rates

No parties commented on Commerce's preliminary separate rate determination. Therefore, we have not made any changes regarding our determination of companies eligible to receive a separate rate. Accordingly, we continue to find that Yuzhan and certain non-individually examined companies that are listed in the “Final Determination” rate table, below, are eligible for a separate.

Combination Rates

Consistent with the Preliminary Determination and Policy Bulletin 05.1,¹⁰ Commerce calculated combination rates for the companies eligible for a separate rate.

¹⁰ See Enforcement and Compliance's Policy Bulletin No. 05.1, regarding, “Separate-Rates Practice and Application of Combination Rates in Antidumping Investigations involving Non-Market Economy Countries,” (April 5, 2005) (Policy Bulletin 05.1), available on Commerce's website at https://enforcement.trade.gov/policy/bull05-1.pdf.

Final Determination

Commerce determines that the following estimated weighted-average dumping margins exist:

Producer | Exporter | Estimated weighted- average dumping margin (percent) | Cash deposit rate (adjusted for subsidy offsets) (percent)
Vietnam Yuzhan Packaging Technology Company Limited | Vietnam Yuzhan Packaging Technology Company Limited | 4.58 | 1.38
Ningbo Changya Plastic (Vietnam) Co., Ltd | Ningbo Changya Plastic (Vietnam) Co., Ltd | 4.58 | 1.38
Ningbo Changya Plastic (Vietnam) Co., Ltd | Changya Newmaterial Technology Co., Ltd | 4.58 | 1.38
Vietnam-Wide Entity |  | * 260.56 | 212.27
* This rate is based on facts available with adverse inferences.

Disclosure

Commerce intends to disclose the calculations performed in connection with this final determination to interested parties within five days after public announcement or, if there is no public announcement, within five days of the date of publication of this notice in the Federal Register, in accordance with 19 CFR 351.224(b).

Continuation of Suspension of Liquidation

In accordance with section 735(c)(1)(B) of the Act, we will instruct U.S. Customs and Border Protection (CBP) to continue to suspend liquidation of subject merchandise entries, as described in Appendix I of this notice, which are entered, or withdrawn from warehouse, for consumption on or after May 12, 2025, the date of publication of the Preliminary Determination in the Federal Register.

Pursuant to section 735(c)(1)(B)(ii) of the Act and 19 CFR 351.210(d), Commerce will instruct CBP to require a cash deposit equal to the amount by which the normal value exceeds the U.S. price as follows: (1) the cash deposit rate for the exporter/producer combination listed in the table above will be the rate identified in the table; (2) for all combination of Vietnamese exporters/producers of subject merchandise that have not received their own separate rate above, the cash deposit rate will be the cash deposit rate established for the Vietnam-wide entity; and (3) for all non-Vietnamese exporters of subject merchandise which have not received their own separate rate above, the cash deposit rate will be the cash deposit rate applicable to the Vietnamese exporter/producer combination that supplied that non-Vietnamese exporter. These suspension of liquidation instructions will remain in effect until further notice.

To determine the cash deposit rate, Commerce normally adjusts the estimated weighted-average dumping margin by the amount of export subsidies countervailed in a companion CVD investigation, when CVD provisional measures are in effect. Accordingly, where Commerce made an affirmative determination for countervailable export subsidies, Commerce would offset the estimated weighted-average dumping margins by the appropriate export subsidy rate. Any such adjusted cash deposit rates may be found in the “Final Determination” section above. However, the suspension of liquidation of provisional measures in the companion CVD investigation has been discontinued.¹¹ Therefore, we are not instructing CBP to collect cash deposits based upon the adjusted estimated weighted-average dumping margins for export subsidies at this time. If the U.S. International Trade Commission (ITC) makes a final affirmative determination of injury due to both dumping and subsidies, then the cash deposit rate will be revised effective on the date of publication of the ITC's final affirmative determination in the Federal Register to be the company-specific estimated weighted-average dumping margin adjusted for export subsidies.

¹¹ See Thermoformed Molded Fiber Products From the Socialist Republic of Vietnam: Preliminary Affirmative Countervailing Duty Determination, Preliminary Affirmative Critical Circumstances Determination, and Alignment of Final Determination With Final Antidumping Duty Determination, 90 FR 12126 (March 14, 2025); see also section 703(d) of the Act, which states that the provisional measures may not be in effect for more than four months, which in the companion CVD case is 120 days after the publication of the preliminary determination, or July 11, 2025 (i.e., last day provisional measures are in effect).

ITC Notification

In accordance with section 735(d) of the Act, Commerce will notify the ITC of its final affirmative determination of sales at LTFV. Because Commerce's final determination is affirmative, in accordance with section 735(b)(2) of the Act, the ITC will make its final determination as to whether the domestic industry in the United States is materially injured, or threatened with material injury, by reason of imports of molded fiber products no later than 45 days after this final determination. If the ITC determines that material injury or threat of material injury does not exist, the proceeding will be terminated and all cash deposits will be refunded or canceled, and suspension of liquidation will be lifted. If the ITC determines that such injury does exist, Commerce will issue an antidumping duty order directing CBP to assess, upon further instructions by Commerce, antidumping duties on all imports of the subject merchandise that are entered, or withdrawn from warehouse, for consumption on or after the effective date of the suspension of liquidation, as discussed above in the “Continuation of Suspension of Liquidation” section above.

Administrative Protective Order (APO)

This notice also serves as the only reminder to parties subject to an APO of their responsibility concerning the disposition of proprietary information disclosed under APO in accordance with 19 CFR 351.305(a)(3). Timely written notification of the return or destruction of APO materials or conversion to judicial protective order is hereby requested. Failure to comply with the regulations and terms of an APO is a sanctionable violation.

Notification to Interested Parties

This determination is issued and published in accordance with sections 733(d) and 777(i) of the Act, and 19 CFR 351.210(c).

Dated: September 24, 2025.
Christopher Abbott,
Deputy Assistant Secretary for Policy and Negotiations, performing the non-exclusive functions and duties of the Assistant Secretary for Enforcement and Compliance.

Appendix I

Scope of the Investigation

The merchandise subject to this investigation consists of thermoformed molded fiber products regardless of shape, form, function, fiber source, or finish. Thermoformed molded fiber products are formed with cellulose fibers, thermoformed using one or more heated molds, and dried/cured in the mold.

Thermoformed molded fiber products include, but are not limited to, plates, bowls, clamshells, trays, lids, food or foodservice contact packaging, and consumer or other product packaging.

Thermoformed molded fiber products are relatively dense, with a typical fiber density above 0.5 grams per cubic centimeter, and are generally characterized by relatively smooth surfaces. They may be derived from any virgin or recycled cellulose fiber source (including, but not limited to, those sourced from wood, woody crops, agricultural crops/byproducts/residue, and agricultural/industrial/other waste). They may have any weight, shape, dimensionality, design, or size, and may be bleached, unbleached, dyed, colored, or printed. They may include ingredients, additives, or chemistries to enhance functionality including, but not limited to, anti-microbial, anti-fungal, anti-bacterial, heat/flame resistant, hydrophobic, oleophobic, absorbent, or adsorbent. Thermoformed molded fiber products may also be subject to other processing or treatments, including, but not limited to, hot or after pressing, die-cutting, punching, trimming, padding, perforating, printing, labeling, dying, coloring, coating, laminating, embossing, debossing, repacking, or denesting. Thermoformed molded fiber products subject to this investigation may also have additional design features, including, but not limited to, tab closures, venting, channeling, or stiffening.

Thermoformed molded fiber products remain covered by the scope of this investigation if the subject product is encased by exterior packaging. They also remain covered by the scope of this investigation whether imported alone, or in any combination of subject and non-subject merchandise (e.g., a lid or cover of any type packaged with a molded fiber bowl, addition of any items to make the thermoformed molded fiber packaging suitable for end-use such as absorbent pads). When thermoformed molded fiber products are imported in combination with non-subject merchandise, only the thermoformed molded fiber products are subject merchandise.

Also excluded from the scope of this investigation are products covered by the scope of the antidumping and countervailing duty orders on paper plates from People's Republic of China, the Kingdom of Thailand, and the Socialist Republic of Vietnam.

Excluded from the scope of this investigation are thermoformed molded fiber products imported as packaging material that enclose and/or surround non-subject merchandise prepackaged for final sale upon importation into the United States (e.g., molded fiber packaging surrounding a cellular phone).

Thermoformed molded fiber products include thermoformed molded fiber products matching the above description that have been finished, packaged, or otherwise processed in a third country by performing finishing, packaging, or processing that would not otherwise remove the merchandise from the scope of the investigation if performed in the country of manufacture of the thermoformed molded fiber products. Examples of finishing, packaging, or other processing in a third country that would not otherwise remove the merchandise from the scope of the investigation if performed in the country of manufacture of the thermoformed molded fiber products include, but are not limited to, hot or after pressing, die-cutting, punching, trimming, padding, perforating, printing, labeling, dying, coloring, coating, laminating, embossing, debossing, repacking, or denesting.

Thermoformed molded fiber products are classified under subheadings 4823.70.0020 and 4823.70.0040, Harmonized Tariff Schedule of the United States (HTSUS). Imports may also be classified under subheadings 4823.61.0020, 4823.61.0040, 4823.69.0020, 4823.69.0040, 4823.90.1000, HTSUS. References to the HTSUS classification are provided for convenience and customs purposes, and the written description of the merchandise under investigation is dispositive.

Appendix II

List of Topics Discussed in the Issues and Decision Memorandum

I. Summary

II. Background

III. Adjustment to Cash Deposit Rate for Export Subsidies

IV. Changes Since the Preliminary Determination

V. Application of Facts Available and Use of Adverse Inference

VI. Discussion of the Issues

Comment 1: Whether Commerce Should Rely Exclusively on the Financial Statements of Suparma to Calculate Surrogate Financial Ratios in the Final Determination

Comment 2: Whether Commerce Should Reconsider Its Rejection of Suparma's 2024 Financial Statements

Comment 3: Whether Commerce Should Exclude Zero Tariffs Used in its Water Surrogate Value Calculation

Comment 4: Whether Commerce Should Use Inbound, Not Outbound, Rates for its Brokerage and Handling

Comment 5: Commerce's Use of the Cohen's d Test is Inconsistent with the Recent Federal Circuit Decision

Comment 6: Whether Commerce Should Apply Adverse Facts Available (AFA) with Regards to Chinese Purchases of Semi-Finished Goods

Comment 7: Whether Commerce Should Use the Most Recent Factors of Production (FOP) Database in the Final Determination

Comment 8: Whether Commerce Should Revise Its Margin Calculation Program to Cure Ministerial Errors in the Billing Adjustment Calculation

Comment 9: Whether Commerce Should Use Contemporaneous Information to Value Inland Truck Freight Rates and Brokerage and Handling

Comment 10: Whether Commerce Should Include All Subject Merchandise in the Final Determination

Comment 11: Whether Commerce Should Have Selected a Voluntary Respondent

Comment 12: Whether Commerce Must Explain Why Its New Price Difference Test Is Not Arbitrary

Comment 13: Whether Commerce's Ratio Test Is Inconsistent with the Statute

Comment 14: Whether Commerce Must Provide Full Explanations of All the Aspects of Its New Differential Pricing Analysis

Comment 15: Whether Commerce's Differential Pricing Test Is Not a Reasonable Test for Determining if a Pattern of Pricing Exists

Comment 16: Whether to Modify the Basis for Commerce's New Price Difference Test

Comment 17: Whether Commerce Should Make Adjustments to the Antidumping Duty (AD) Rates to Avoid a Double Remedy in the Absence of New Subsidy Allegation Information

Comment 18: Whether Commerce Should Make an Adjustment to Account for Countervailed Domestic Subsidies to Avoid Applying a Double Remedy

VII. Recommendation

[FR Doc. 2025-18890 Filed 9-29-25; 8:45 am]

BILLING CODE 3510-DS-P